DEPARTMENT OF COMMERCE

National Oceanic and Atmospheric Administration

15 CFR Part 902

50 CFR Part 679

[200113-0012]

RIN 0648-BI53

Fisheries of the Exclusive Economic Zone Off Alaska; Halibut Deck Sorting Monitoring Requirements for Trawl Catcher/Processors Operating in Non-Pollock Groundfish Fisheries Off Alaska

AGENCY: National Marine Fisheries Service (NMFS), National Oceanic and Atmospheric Administration (NOAA), Commerce.

ACTION: Final rule; lift of stay; date of effectiveness for collection-of-information requirements.

SUMMARY: NMFS announces approval by the Office of Management and Budget (OMB) of collection-of-information requirements, which were contained in regulations to implement catch handling and monitoring requirements to allow Pacific halibut (halibut) bycatch to be sorted on the deck of trawl catcher/processors (C/Ps) and motherships participating in the non-pollock groundfish fisheries off Alaska, in a final rule published on October 15, 2019. The intent of this rule is to inform the public of the effectiveness of the collection-of-information requirements associated with the catch handling and monitoring requirements included in the October 15, 2019, final rule.

DATES: This rule is effective January 28, 2020. The stays of 50 CFR 679.28(d)(9) and (10) and (l) and 679.120(b), (c), (d), and (e) are lifted effective January 28, 2020. The collection-of-information requirements in 50 CFR 679.28(d)(9) and (10) and (l) and 679.120(b), (c), (d), and (e) were effective December 16, 2019.

ADDRESSES: Written comments regarding the burden-hour estimates or other aspects of the collection-of-information requirements contained in this rule may be submitted by mail to NMFS Alaska Region, P.O. Box 21668, Juneau, AK 99802-1668; by email to OIRA_Submission@omb.eop.gov; or by fax to 202-395-5806.

FOR FURTHER INFORMATION CONTACT: Joseph Krieger, 907-586-7228 or joseph.krieger@noaa.gov.

SUPPLEMENTARY INFORMATION: NMFS manages the groundfish fisheries in the exclusive economic zone under the Fishery Management Plan for Groundfish of the Gulf of Alaska and under the Fishery Management Plan for Groundfish of the Bering Sea and Aleutian Islands Management Area. The North Pacific Fishery Management Council prepared these fishery management plans under the authority of the Magnuson-Stevens Fishery Conservation and Management Act (Magnuson-Stevens Act), 16 U.S.C. 1801 et seq. Regulations governing U.S. fisheries and implementing the Magnuson-Stevens Act are located at 50 CFR parts 600 and 679.

Background

NMFS issued a final rule to implement catch handling and monitoring requirements to allow halibut bycatch to be sorted on the deck of trawl C/Ps and motherships participating in the non-pollock groundfish fisheries off Alaska. The final rule was published in the Federal Register on October 15, 2019 (84 FR 55044), and the associated regulations are found at 50 CFR part 679. The requirements of that final rule, other than the collection-of-information requirements associated with the catch handling and monitoring requirements, were effective on November 14, 2019. That final rule incorrectly stated that the collection-of-information requirements subject to the Paperwork Reduction Act (PRA) had been approved by the OMB at the time the final rule was published. That final rule also inadvertently omitted amendatory language to remove a now obsolete and unnecessary regulation. As a result, NMFS issued a rule correcting the final rule by adding the amendatory language removing an obsolete and unnecessary regulation, and staying the effectiveness of associated collection-of-information requirements on December 9, 2019 (84 FR 67183). OMB approved the collection-of-information requirements contained in the final rule on December 16, 2019, under OMB Control Numbers 0648-0318 (North Pacific Observer Program) and 0648-0330 (Alaska Region, Scale and Catch Weighing Requirements). Accordingly, this rule announces the approval and effective date of the approval and reporting requirements for the Deck Safety Plan, deck video monitoring system, and observer deck sampling station found at 50 CFR 679.28(d)(9) and (10) and (l) and 679.120(b), (c), (d), and (e).

OMB Revisions to PRA References in 15 CFR 902.1(b)

Section 3507(c)(B)(i) of the Paperwork Reduction Act (PRA) requires that agencies inventory and display a current control number assigned by the Director of the Office of Management and Budget (OMB), for each agency's information collection. Section 902.1(b) identifies the location of NOAA regulations for which OMB approval numbers have been issued. Because this final rule adds and revises collection-of-information requirements, 15 CFR 902.1(b) is revised to reference correctly the sections resulting from this final rule.

Classification

Administrative Procedure Act

Pursuant to 5 U.S.C. 553(b)(B), there is good cause to waive prior notice and opportunity for public comment for this action because notice and comment would be unnecessary and contrary to the public interest. This action simply provides notice of OMB's approval of the reporting requirements at issue, which has already occurred, and renders those requirements effective. Thus this action does not involve any further exercise of agency discretion by NMFS or OMB. Moreover, the public has had prior notice and the opportunity to comment on the collection-of-information requirements. NMFS published a proposed rule including the collection-of-information requirements (84 FR 15566; published April 16, 2019), with comments accepted until May 16, 2019. An additional opportunity for public comment at this point would not be meaningful and would be duplicative.

For the reasons above, there is also good cause under 5 U.S.C. 553(d)(3) to waive the 30-day delay in effective date and make this rule effective immediately upon publication.

Executive Order 12866

This final rule has been determined to be not significant for purposes of Executive Order 12866.

Paperwork Reduction Act

This final rule contains collection-of-information requirements subject to the PRA and which OMB approved under OMB Control Numbers 0648-0318 and 0648-0330 on December 16, 2019. The public reporting burden for these collection-of-information requirements includes the time for reviewing instructions, searching existing data sources, gathering and maintaining the data needed, and completing and reviewing the collection of information.

OMB Control No. 0648-0318

This final rule requires vessel owners or operators of trawl C/Ps and motherships who choose to sort halibut prohibited species catch (PSC) on deck to have a NMFS-approved Deck Safety Plan prior to participating in halibut deck sorting. Currently 24 vessels have participated in halibut deck sorting with a fully developed Deck Safety Plan. NMFS estimates approximately three new vessels may choose to participate in deck sorting over the next three years. Public reporting burden for the development of a new Deck Safety Plan during the first (initial) year a vessel participates in halibut deck sorting is estimated to average 12 hours. After the first year, the public reporting burden for a respondent to modify or renew an existing Deck Safety Plan is estimated to be one hour.

For vessel owners or operators of trawl C/Ps and motherships who choose to sort halibut PSC on deck, the public reporting burden per response to notify the Observer Program by phone is estimated to be five minutes, the burden to notify the observer is estimated at two minutes, and appeal of a disapproved Deck Safety Plan is estimated at 4 hours.

OMB Control No. 0648-0330

When this action takes effect, 24 vessels will have participated in halibut deck sorting with installed deck video monitoring systems and observer deck sampling stations in compliance with regulations. NMFS estimates approximately three new vessels may choose to participate in deck sorting over the next three years. This final rule requires vessel owners or operators of trawl C/Ps and motherships who choose to sort halibut PSC on deck to install an observer sampling station on deck for use by the observer when deck sorting halibut. Public reporting burden for the installation of the observer deck sampling station during the first (initial) year a vessel participates in halibut deck sorting is estimated to average 12 hours. After the first year, annual maintenance of observer sampling stations both in the factory and on deck is expected to be minimal and will likely be done with other factory modifications initiated by the vessel to improve processing efficiency. Annual public reporting burden after the first year is estimated at one minute.

In addition, these vessels must install a deck sorting video monitoring system on deck. Public reporting burden for the installation of the video monitoring system is estimated to average 12 hours. After the first year, annual maintenance of the video monitoring system, including routine inspection and time required to call out for any needed repair, is estimated at one minute.

Public reporting burden for the Inspection Request for Observer Sampling Station, At-sea Scales, Video Monitoring Deck Sampling Station, and Deck Video Monitoring is estimated at 8 minutes.

Send comments on these burden estimates or any other aspect of this data collection, including suggestions for reducing the burden, to NMFS Alaska Region (see ADDRESSES), and by email to OIRA_Submission@omb.eop.gov, or by fax to 202-395-5806.

Notwithstanding any other provision of the law, no person is required to respond to, and no person shall be subject to penalty for failure to comply with, a collection of information subject to the requirements of the PRA, unless that collection of information displays a currently valid OMB control number.

Authority: 16 U.S.C. 773 et seq.; 1801 et seq.; 3631 et seq.; Pub. L. 108-447; Pub. L. 111-281.

List of Subjects in 15 CFR Part 902

Reporting and recordkeeping requirements.

Dated: January 13, 2020.
Samuel D. Rauch III,
Deputy Assistant Administrator for Regulatory Programs, National Marine Fisheries Service.

For the reasons set out in the preamble, NMFS amends 15 CFR part 902 as follows:

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, in the table in paragraph (b), under the entry “50 CFR”, add entries in alphanumeric order for “679.28(l)”, “679.120(b)”, and “679.120(c), (d), and (e)” to read as follows:

§ 902.1 OMB control numbers assigned pursuant to the Paperwork Reduction Act.

* * * * *

(b) * * *

CFR part or section where the information collection requirement is located | Current OMB control No. (all numbers begin with 0648-)
* * * * *
50 CFR: |
* * * * *
679.28(l) | -0330
* * * * *
679.120(b) | -0330
679.120(c), (d), and (e) | -0318
* * * * *

* * * * *

[FR Doc. 2020-00712 Filed 1-27-20; 8:45 am]

BILLING CODE 3510-22-P